DEPARTMENT OF HEALTH AND HUMAN SERVICES

Centers for Disease Control and Prevention

[30Day-04-04EE]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Pregnancy Risk Assessment Monitoring System (PRAMS) Program Evaluation—New—National Center for Chronic Disease Prevention and Health Promotion (NCCDPHP), Centers for Disease Control and Prevention (CDC).

Background

The Pregnancy Risk Assessment Monitoring System (PRAMS) is a surveillance project of CDC, National Center for Chronic Disease Prevention and Health Promotion and state health departments. PRAMS collects state-specific, population-based data on maternal attitudes and experiences prior to, during, and immediately following pregnancy.

The goal of the PRAMS project is to improve the health of mothers and infants by reducing adverse outcomes such as low birth weight, infant mortality and morbidity, and maternal morbidity. PRAMS provides state-specific data for planning and assessing health programs and for describing maternal experiences that may contribute to maternal and infant health.

PRAMS collects data that are unavailable through other surveillance systems; and it has become a critical mechanism for identifying and monitoring trends, informing program evaluations and policy decisions, and tracking progress toward Healthy People 2010 objectives that are related to maternal and child health (MCH). Currently 31 states and New York City administer PRAMS, representing 62% of all U.S. births. The objectives of the program evaluation are threefold:

1. To inform the operational, analytic, translation, and capacity building functions of the current PRAMS system and make them more efficient, effective and capable of meeting future needs.

2. To provide information that will guide the expansion and support of additional state PRAMS programs.

3. To provide information that will enable the PRAMS system to be more responsive to changes in public health priorities and policies, including the needs of the state programs and the wider MCH community.

A key component of the PRAMS evaluation is a semi-structured mail survey of all 32 PRAMS program directors. The focus of the mail-in survey will be to examine ways to make PRAMS data accessible for analysis, factors promoting capacity and utilization, costs, indicators of success, and additional resources needed to improve quality and responsiveness.

Prior to fielding the survey, a research contractor will conduct one- to two-hour interviews with 3 to 4 program representatives. These interviews will help to reduce overall respondent burden by assessing whether the survey is comprehensible and relevant, whether the terms and phrases are understood as intended, and whether it is easy to read.

The information obtained from this data collection will help the CDC meet its evaluation objectives as described above. Responses are voluntary. No proprietary items or sensitive information will be collected. The annualized burden hours are estimated to be 32.

Form | Number of respondents | Number of responses per respondent | Average burden per response (in hours)
Mail-in Survey | 32 | 1 | 1

Dated: August 17, 2004.
Alvin Hall,
Director, Management Analysis and Services Office, Centers for Disease Control and Prevention.

[FR Doc. 04-19217 Filed 8-20-04; 8:45 am]

BILLING CODE 4163-18-P